Memorandum of January 20, 2025

Restoring Accountability for Career Senior Executives

Memorandum for the Heads of Executive Departments and Agencies

Career Senior Executive Service (SES) officials are charged to “ensure that the executive management of the Government of the United States is responsive to the needs, policies, and goals of the Nation and otherwise is of the highest quality,” as required by section 3131 of title 5, United States Code. SES officials have enormous influence over the functioning of the Federal Government, and thus the well-being of hundreds of millions of Americans.

As the Constitution makes clear, and as the Supreme Court of the United States has reaffirmed, “the ‘executive Power’—all of it—is ‘vested in a President,’ who must ‘take Care that the Laws be faithfully executed.’ ” Seila Law LLC v. Consumer Financial Protection Bureau, 591 U.S. 197, 203 (2020). “Because no single person could fulfill that responsibility alone, the Framers expected that the President would rely on subordinate officers for assistance.” Id. at 203-04.

The President's power to remove subordinates is a core part of the Executive power vested by Article II of the Constitution and is necessary for the President to perform his duty to “take Care that the Laws be faithfully executed.” Because SES officials wield significant governmental authority, they must serve at the pleasure of the President.

Only that chain of responsibility ensures that SES officials are properly accountable to the President and the American people. If career SES officials fail to faithfully fulfill their duties to advance the needs, policies, and goals of the United States, the President must be able to rectify the situation and ensure that the entire Executive Branch faithfully executes the law. For instance, SES officials who engage in unauthorized disclosure of Executive Branch deliberations, violate the constitutional rights of Americans, refuse to implement policy priorities, or perform their duties inefficiently or negligently should be held accountable.

The President must be able to trust that the Executive Branch will work together in service of the Nation. My Administration will restore a “government of the people, by the people, for the people.” Therefore:

(a) Within 30 days of the signing of this memorandum, the Director of the Office of Personnel Management (OPM), in coordination with the Director of the Office of Management and Budget (OMB), shall issue SES Performance Plans that agencies must adopt;

(b) Agency heads, who along with their senior staff manage career SES officials as one of their core functions, shall use all available authorities to reinvigorate the SES system and prioritize accountability;

(c) Each agency head shall, as necessary and appropriate and consistent with the procedural requirements of section 3395 of title 5, United States Code, reassign agency SES members to ensure their knowledge, skills, abilities, and mission assignments are optimally aligned to implement my agenda;

(d) Each agency head should terminate its existing Executive Resources Board (ERB), institute a new or interim ERB, and assign senior noncareer officials to chair and serve on the board as a majority alongside career members;

(e) Each agency head should terminate its existing Performance Review Board membership and re-constitute membership with individuals committed to full enforcement of SES performance evaluations that promote and assure an SES of the highest caliber; and

(f) Any agency head who becomes aware of an SES official whose performance or continued occupancy of the position is inconsistent with either the principles reaffirmed in this Order or their duties to the Nation under section 3131 of title 5, United States Code, shall immediately take all appropriate actions, up to and including removal of that official, with the support of OPM and OMB. Restoring an accountable government workforce is a top priority of my Administration.

THE WHITE HOUSE,

Washington, January 20, 2025

[FR Doc. 2025-02042

Filed 1-29-25; 8:45 am]

Billing code 3395-F4-P